DEPARTMENT OF HEALTH AND HUMAN SERVICES

National Institutes of Health

National Cancer Institute; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel; SEP-09 SBIR/STTR/SB1 Grant Review.

Date: April 8-9, 2025.

Time: 10:00 a.m. to 2:00 p.m.

Agenda: To review and evaluate grant applications.

Address: National Cancer Institute at Shady Grove, 9609 Medical Center Drive, Room 7W554, Rockville, Maryland 20850.

Meeting Format: Virtual Meeting.

Contact Person: Scott A. Chen, Ph.D., Chief, Scientific Review Officer, Program Coordination and Referral Branch, Division of Extramural Activities, 9609 Medical Center Drive, Room 7W554, National Cancer Institute, NIH, Rockville, Maryland 20850, 240-276-6038, chensc@mail.nih.gov.

Name of Committee: National Cancer Institute Special Emphasis Panel; SEP-01 SBIR/STTR Grant Review.

Date: April 15, 2025.

Time: 9:00 a.m. to 6:00 p.m.

Agenda: To review and evaluate grant applications.

Address: National Cancer Institute at Shady Grove, 9609 Medical Center Drive, Room 7W514, Rockville, Maryland 20850.

Meeting Format: Virtual Meeting.

Contact Person: Wlodek Lopaczynski, M.D., Ph.D., Assistant Director, Office of the Director, Division of Extramural Activities, National Cancer Institute, NIH, 9609 Medical Center Drive, Room 7W514, Rockville, Maryland 20850, 240-276-6340, lopacw@mail.nih.gov.

Name of Committee: National Cancer Institute Special Emphasis Panel; SEP-10 SBIR/STTR Grant Review.

Date: April 23, 2025.

Time: 9:00 a.m. to 6:30 p.m.

Agenda: To review and evaluate grant applications.

Address: National Cancer Institute at Shady Grove, 9609 Medical Center Drive, Room 7W334, Rockville, Maryland 20850.

Meeting Format: Virtual Meeting.

Contact Person: Leila B. Toulabi, Ph.D., Scientific Review Officer, Research Programs Review Branch, Division of Extramural Activities, National Cancer Institute, NIH, 9609 Medical Center Drive, Room 7W334, Rockville, Maryland 20850, 240-276-6611, leila.toulabi@nih.gov.

Name of Committee: National Cancer Institute Special Emphasis Panel; SEP-06 SBIR/STTR Grant Review.

Date: May 6-7, 2025.

Time: 10:00 a.m. to 1:00 p.m.

Agenda: To review and evaluate grant applications.

Address: National Cancer Institute at Shady Grove, 9609 Medical Center Drive, Room 7W102, Rockville, Maryland 20850.

Meeting Format: Virtual Meeting.

Contact Person: Shakeel Ahmad, Ph.D., Branch Chief, Research Technology and Contract Review Branch, Division of Extramural Activities, National Cancer Institute, NIH, 9609 Medical Center Drive, Room 7W102, Rockville, Maryland 20850, 240-276-6442, ahmads@mail.nih.gov.

Name of Committee: National Cancer Institute Initial Review Group; Transition to Independence Study Section (I).

Date: June 4-5, 2025.

Time: 11:00 a.m. to 5:00 p.m.

Agenda: To review and evaluate grant applications.

Address: National Cancer Institute at Shady Grove, 9609 Medical Center Drive, Room 7W602, Rockville, Maryland 20850.

Meeting Format: Virtual Meeting.

Contact Person: Delia Tang, M.D., Scientific Review Officer, Resources and Training Review Branch, Division of Extramural Activities, National Cancer Institute, NIH, 9609 Medical Center Drive, Room 7W602, Rockville, Maryland 20850, 240-276-6456, tangd@mail.nih.gov.

Name of Committee: National Cancer Institute Initial Review Group; Career Development Study Section (J).

Date: June 25-26, 2025.

Time: 9:00 a.m. to 6:00 p.m.

Agenda: To review and evaluate grant applications.

Address: National Cancer Institute Shady Grove, 9609 Medical Center Drive, Room 7W624, Rockville, Maryland 20850.

Meeting Format: Virtual Meeting.

Contact Person: Tushar Deb, Ph.D., Scientific Review Officer, Resources and Training Review Branch, Division of Extramural Activities, National Cancer Institute, NIH, 9609 Medical Center Drive, Room 7W624, Rockville, Maryland 20850, 240-276-6132, tushar.deb@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: March 11, 2025.
Melanie J. Pantoja,
Program Analyst, Office of Federal Advisory Committee Policy.

[FR Doc. 2025-04213 Filed 3-14-25; 8:45 am]

BILLING CODE 4140-01-P